DEPARTMENT OF HOMELAND SECURITY

Federal Emergency Management Agency

[Docket ID FEMA-2019-0002; Internal Agency Docket No. FEMA-B-1916]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Managment, Department of Homeland Security, Federal Emergency Management Agency.

State and county | Location and case No. | Chief executive officer of community | Community map repository | Online location of letter of map revision | Date of modification | Community No.
Alabama: Shelby | City of Pelham (19-04-1376X). | The Honorable Gary W. Waters, Mayor, City of Pelham, 3162 Pelham Parkway, Pelham, AL 35124. | City Hall, 3162 Pelham Parkway, Pelham, AL 35124. | https://msc.fema.gov/portal/advanceSearch | May 6, 2019 | 010193
Arkansas:
Pulaski | City of North Little Rock (18-06-1862P). | The Honorable Joe Smith, Mayor, City of North Little Rock, 300 Main Street, North Little Rock, AR 72119. | City Hall, 500 West 13th Street, North Little Rock, AR 72114. | https://msc.fema.gov/portal/advanceSearch | Jun. 11, 2019 | 050182
Pulaski | City of Maumelle (18-06-1862P). | The Honorable Michael Watson, Mayor, City of Maumelle, 550 Edgewood Drive, Suite 590, Maumelle, AR 72113. | City Hall, 550 Edgewood Drive, Suite 590, Maumelle, AR 72113. | https://msc.fema.gov/portal/advanceSearch | Jun. 11, 2019 | 050577
California:
Santa Barbara | City of Santa Barbara (18-09-1502P). | Mr. Paul Casey, City of Santa Barbara Administrator, P.O. Box 1990, Santa Barbara, CA 93102. | Community Development Department, Building and Safety Division, 630 Garden Street, Santa Barbara, CA 93101. | https://msc.fema.gov/portal/advanceSearch | Jun. 21, 2019 | 060335
Santa Barbara | City of Santa Barbara (18-09-1503P). | Mr. Paul Casey, City of Santa Barbara Administrator, P.O. Box 1990, Santa Barbara, CA 93102. | Community Development Department, Building and Safety Division, 630 Garden Street, Santa Barbara, CA 93101. | https://msc.fema.gov/portal/advanceSearch | Jun. 24, 2019 | 060335
Colorado: Adams | City of Thornton (18-08-1093P). | The Honorable Heidi Williams, Mayor, City of Thornton, 9500 Civic Center Drive, Thornton, CO 80229. | City Hall, 9500 Civic Center Drive, Thornton, CO 80229. | https://msc.fema.gov/portal/advanceSearch | Jun 14, 2019 | 080007
Florida:
Lee | City of Bonita Springs (18-04-6716P). | The Honorable Peter Simmons, Mayor, City of Bonita Springs, 9101 Bonita Beach Road, Bonita Springs, FL 34135. | Community Development Department, 9220 Bonita Beach Road, Suite 111, Bonita Springs, FL 34135. | https://msc.fema.gov/portal/advanceSearch | Jun 14, 2019 | 120680
Lee | Town of Fort Myers Beach (18-04-6934P). | The Honorable Tracy Gore, Mayor, Town of Fort Myers Beach, 2525 Estero Boulevard, Fort Myers Beach, FL 33931. | Community Development Department, 2525 Estero Boulevard, Fort Myers Beach, FL 33931. | https://msc.fema.gov/portal/advanceSearch | Jun 13, 2019 | 120673
Manatee | City of Bradenton Beach (19-04-0245P). | The Honorable John Chappie, Mayor, City of Bradenton Beach, 107 Gulf Drive North, Bradenton Beach, FL 34217. | City Hall, 107 Gulf Drive North, Bradenton Beach, FL 34217. | https://msc.fema.gov/portal/advanceSearch | Jun 11, 2019 | 125091
Monroe | Unincorporated areas of Monroe County (19-04-0251P). | The Honorable Sylvia Murphy, Mayor, Monroe County Board of Commissioners, 102050 Overseas Highway, Suite 234, Key Largo, FL 33037. | Monroe County Building Department, 2798 Overseas Highway, Suite 300, Marathon, FL 33050. | https://msc.fema.gov/portal/advanceSearch | Jun 11, 2019 | 125129
Palm Beach | Unincorporated areas of Palm Beach County (19-04-0277P). | The Honorable Mack Bernard, Mayor, Palm Beach County Council, 301 North Olive Avenue, Suite 1201, West Palm Beach, FL 33401. | Palm Beach County Building Division, 2300 North Jog Road, West Palm Beach, FL 33411. | https://msc.fema.gov/portal/advanceSearch | Jun 14, 2019 | 120192
Polk | Unincorporated areas of Polk County (18-04-5489P). | The Honorable George Lindsey III, Chairman, Polk County Board of Commissioners, P.O. Box 9005, Drawer BC01, Bartow, FL 33831. | Polk County Land Development Division, 330 West Church Street, Bartow, FL 33830. | https://msc.fema.gov/portal/advanceSearch | Jun 13, 2019 | 120261
Seminole | City of Longwood (18-04-6273P). | The Honorable Ben Paris Mayor, City of Longwood, 175 West Warren Avenue, Longwood, FL 32750. | Community Development Department, 174 West Church Avenue, Longwood, FL 32750. | https://msc.fema.gov/portal/advanceSearch | Jun 14, 2019 | 120292
Maryland: Independent City | City of Baltimore (18-03-2013P). | The Honorable Catherine E. Pugh, Mayor, City of Baltimore, 100 North Holliday Street, Baltimore, MD 21202. | Planning Department, 417 East Fayette Street, 8th Floor, Baltimore, MD 21202. | https://msc.fema.gov/portal/advanceSearch | Jun 11, 2019 | 240087
Massachusetts: Norfolk | Town of Dedham (18-01-1423P). | Mr. James Kern, Manager, Town of Dedham, 26 Bryant Street, Dedham, MA 02026. | Public Works Department, 55 River Street, Dedham, MA 02026. | https://msc.fema.gov/portal/advanceSearch | Jun 13, 2019 | 250237
Montana:
Fallon | City of Baker (18-08-0474P). | The Honorable JoDee Pratt, Mayor, City of Baker, P.O. Box 1512, Baker, MT 59313. | Planning Department, 10 West Fallon Avenue, Baker, MT 59313. | https://msc.fema.gov/portal/advanceSearch | Jun 17, 2019 | 300018
Fallon | Unincorporated areas of Fallon County (18-08-0474P). | The Honorable Steve Baldwin, Chairman, Fallon County Board of Commissioners, P.O. Box 846, Baker, MT 59313. | Fallon County Planning Department, 10 West Fallon Avenue, Baker, MT 59313. | https://msc.fema.gov/portal/advanceSearch | Jun 17, 2019 | 300149
Flathead | City of Whitefish (18-08-1047P). | The Honorable John Muhlfeld, Mayor, City of Whitefish, P.O. Box 158, Whitefish, MT 59937. | Planning and Building Department, 418 East 2nd Street, Whitefish, MT 59937. | https://msc.fema.gov/portal/advanceSearch | Jun 13, 2019 | 300026
Flathead | Unincorporated areas of Flathead County (18-08-1047P). | The Honorable Philip Mitchell, Chairman, Flathead County Board of Commissioners, 800 South Main Street, Kalispell, MT 59901. | Flathead County Planning and Zoning Department, 40 11th Street West, Kalispell, MT 59901. | https://msc.fema.gov/portal/advanceSearch | Jun 13, 2019 | 300023
North Carolina: Randolph | Unincorporated areas of Randolph County (18-04-5146P). | The Honorable Darrell L. Frye, Chairman, Randolph County Board of Commissioners, 725 McDowell Road, Asheboro, NC 27205. | Randolph County Planning Department, 725 McDowell Road, Asheboro, NC 27205. | https://msc.fema.gov/portal/advanceSearch | Jun. 6, 2019 | 370195
Oklahoma: Cleveland | City of Oklahoma City (18-06-3471P). | The Honorable David Holt, Mayor, City of Oklahoma City, 200 North Walker Avenue, 3rd Floor, Oklahoma City, OK 73102. | Public Works Department, 420 West Main Street, Suite 700, Oklahoma City, OK 73102. | https://msc.fema.gov/portal/advanceSearch | Jun 13, 2019 | 405378
Pennsylvania:
Bucks | Township of Doylestown (18-03-1689P). | The Honorable Barbara N. Lyons, Chairman, Township of Doylestown Board of Supervisors, 425 Wells Road, Doylestown, PA 18901. | Township Hall, 425 Wells Road, Doylestown, PA 18901. | https://msc.fema.gov/portal/advanceSearch | Jun 14, 2019 | 420185
Bucks | Township of New Britain (18-03-1689P). | The Honorable A. James Scanzillo, Chairman, Township of New Britain Board of Supervisors, 207 Park Avenue, Chalfont, PA 18914. | Township Hall, 207 Park Avenue, Chalfont, PA 18914. | https://msc.fema.gov/portal/advanceSearch | Jun 14, 2019 | 420987
Luzerne | Township of Salem (18-03-1339P). | The Honorable Steven Fraind, Chairman, Township of Salem Board of Supervisors, 38 Bomboy Lane, Berwick, PA 18603. | Township Hall, 38 Bomboy Lane, Berwick, PA 18603. | https://msc.fema.gov/portal/advanceSearch | Jun 21, 2019 | 420625
South Carolina: Horry | Unincorporated areas of Horry County (18-04-3918P). | The Honorable Mark Lazarus, Chairman, Horry County Council, P.O. Box 1236, Conway, SC 29528. | Horry County Department of Code Enforcement, 1301 2nd Avenue, Conway, SC 29526. | https://msc.fema.gov/portal/advanceSearch | Jun 11, 2019 | 450104
South Dakota:
Lincoln | Town of Tea (18-08-1197P). | The Honorable John Lawler, Mayor, Town of Tea, P.O. Box 128, Tea, SD 57064. | Town Hall, 600 East 1st Street, Tea, SD 57064. | https://msc.fema.gov/portal/advanceSearch | May 13, 2019 | 460143
Lincoln | Unincorporated areas of Lincoln County (18-08-1197P). | The Honorable David Gillespie, Chairman, Lincoln County Board of Commissioners, 104 North Main Street, Canton, SD 57013. | Lincoln County GIS Department, 104 North Main Street, Canton, SD 57013. | https://msc.fema.gov/portal/advanceSearch | May 13, 2019 | 460277
Pennington | Unincorporated areas of Pennington County (18-08-0912P). | The Honorable Deb Hadcock, Chair, Pennington County Board of Commissioners, 130 Kansas City Street, Suite 100, Rapid City, SD 57701. | Pennington County Planning Department, 130 Kansas City Street, Suite 200, Rapid City, SD 57701. | https://msc.fema.gov/portal/advanceSearch | Jun 17, 2019 | 460064
Texas:
Guadalupe | City of Cibolo (18-06-2757P). | The Honorable Stosh Boyle, Mayor, City of Cibolo, P.O. Box 826, Cibolo, TX 78108. | City Hall, 200 South Main Street, Cibolo, TX 78108. | https://msc.fema.gov/portal/advanceSearch | Jun 14, 2019 | 480267
Montgomery | Unincorporated areas of Montgomery County (18-06-3313P). | The Honorable Craig B. Doyal, Montgomery County Judge, 501 North Thompson Street, Suite 401, Conroe, TX 77301. | Montgomery County Commissioners Office, 501 North Thompson Street, Suite 103, Conroe, TX 77301. | https://msc.fema.gov/portal/advanceSearch | Jun 11, 2019 | 480483
Tarrant | City of Fort Worth (18-06-2392P). | The Honorable Betsy Price, Mayor, City of Forth Worth, 200 Texas Street, Fort Worth, TX 76102. | Transportation and Public Works Department, 200 Texas Street, Fort Worth, TX 76102. | https://msc.fema.gov/portal/advanceSearch | Jun 13, 2019 | 480596
Tarrant | City of Fort Worth (18-06-3022P). | The Honorable Betsy Price, Mayor, City of Forth Worth, 200 Texas Street, Fort Worth, TX 76102. | Transportation and Public Works Department, 200 Texas Street, Fort Worth, TX 76102. | https://msc.fema.gov/portal/advanceSearch | Jun 13, 2019 | 480596
Tarrant | City of Fort Worth (18-06-3342P). | The Honorable Betsy Price, Mayor, City of Forth Worth, 200 Texas Street, Fort Worth, TX 76102. | Transportation and Public Works Department, 200 Texas Street, Fort Worth, TX 76102. | https://msc.fema.gov/portal/advanceSearch | Jun 13, 2019 | 480596
Utah:
Salt Lake | City of Herriman (18-08-0560P). | The Honorable David Watts, Mayor, City of Herriman, 5355 West Herriman Main Street, Herriman, UT 84096. | City Hall, 13011 South Pioneer Street, Herriman, UT 84096. | https://msc.fema.gov/portal/advanceSearch | Jun 10, 2019 | 490252
Salt Lake | Unincorporated areas of Salt Lake County (18-08-0560P). | The Honorable Ben McAdams, Mayor, Salt Lake County, 2001 South State Street, Suite N2-100, Salt Lake City, UT 84190. | Salt Lake County Public Works Department, 2001 South State Street, Suite N3-100, Salt Lake City, UT 84190. | https://msc.fema.gov/portal/advanceSearch | Jun 10, 2019 | 490102
Virginia: Loudoun | Unincorporated areas of Loudoun County (19-03-0018P). | The Honorable Phyllis J. Randall, Chair, Loudoun County Board of Supervisors, P.O. Box 7000, Leesburg, VA 20177. | Loudoun County Department of Building and Development, 1 Harrison Street, S.E., 3rd Floor, Leesburg, VA 20175. | https://msc.fema.gov/portal/advanceSearch | Jun 17, 2019 | 510090
West Virginia:
Greenbriar | City of White Sulphur Springs (18-03-1881P). | The Honorable Bruce Bowling, Mayor, City of White Sulphur Springs, 589 Main Street West, White Sulphur Springs, WV 24986. | City Hall, 589 Main Street West, White Sulphur Springs, WV 24986. | https://msc.fema.gov/portal/advanceSearch | Jun 17, 2019 | 540045
Greenbrier | Unincorporated areas of Greenbrier County (18-03-1881P). | The Honorable Woody Hanna, President, Greenbrier County Commission, 912 Court Street North, Lewisburg, WV 24901. | Greenbrier County Planning Department, 912 Court Street North, Lewisburg, WV 24901. | https://msc.fema.gov/portal/advanceSearch | Jun 17, 2019 | 540040

[FR Doc. 2019-05106 Filed 3-18-19; 8:45 am]

BILLING CODE 9110-12-P